DEPARTMENT OF HEALTH AND HUMAN SERVICES

National Institutes of Health

Center for Scientific Review; Amended Notice of Meeting

Notice is hereby given of a change in the meeting of the Biobehavioral and Behavioral Processes 1, June 11, 2003, 9 a.m. to June 13, 2003, 5 p.m., Melrose Hotel, 2430 Pennsylvania Ave., NW., Washington, DC, 20037 which was published in the Federal Register on May 7, 2003, 68 FR 24493-24495.

The meeting time has been changed to 8 a.m. on June 11, 2003, 8 p.m. on June 13, 2003. The meeting dates and location remain the same. The meeting is closed to the public.

Dated: May 20, 2003.
LaVerne Y. Stringfield,
Director, Office of Federal Advisory Committee Policy.

[FR Doc. 03-13358 Filed 5-28-03; 8:45 am]

BILLING CODE 4140-01-M